DEPARTMENT OF LABOR

Employment and Training Administration

[TA-W-55,274]

Kamco Plastics Galesburg Warehouse, A Subsidiary of Kamco Plastics, Inc., Galesburg, IL; Notice of Termination of Investigation

Pursuant to Section 221 of the Trade Act of 1974, as amended, an investigation was initiated on July 19, 2004 in response to a petition filed by a company official on behalf of workers of Kamco Plastics Galesburg Warehouse, a subsidiary of Kamco Plastics, Inc., Galesburg, Illinois.

The petition regarding the investigation has been deemed invalid. In order to establish a valid worker group, there must be at least three full-time workers employed at some point during the period under investigation. Workers of the group subject to this investigation did not meet this threshold level of employment. Consequently, the investigation has been terminated.

Signed at Washington, DC, this 28th day of July, 2004.
Richard Church,
Certifying Officer, Division of Trade Adjustment Assistance.

[FR Doc. 04-18338 Filed 8-10-04; 8:45 am]

BILLING CODE 4510-30-P